ENVIRONMENTAL PROTECTION AGENCY

[OPPTS-140290; FRL-6788-3]

Access to Confidential Business Information by Abt Associates

AGENCY: Environmental Protection Agency (EPA).

ACTION: Notice.

SUMMARY: EPA has authorized its contractor Abt Associates of Cambridge, MA access to information which has been submitted to EPA under sections 4, 5, 6, and 8 of the Toxic Substances Control Act (TSCA). Some of the information may be claimed or determined to be confidential business information (CBI). ÿ7E

DATES: ÿ7EAccess to the confidential data submitted to EPA under sections 4, 5, 6, and 8 of TSCA occurred as a result of an approved waiver dated May 30, 2001, which requested granting Abt Associates immediate access to sections 4, 5, 6, and 8 of TSCA CBI. ÿ7E

FOR FURTHER INFORMATION CONTACT: By mail: ÿ7E Barbara A. Cunningham, Acting Director, Environmental Assistance Division (7408), Office of Pollution Prevention and Toxics, Environmental Protection Agency, 1200 Pennsylvania Ave., NW., Washington, DC 20460; telephone number: (202) 554-1404; e-mail address: TSCA-Hotline@epamail.epa.gov.

SUPPLEMENTARY INFORMATION:

I. Does this Notice Apply to Me?

This action is directed to the public in general. This action may, however, be of interest to “those persons who are or may be required to conduct testing of chemical substances under the Toxic Substances Control Act (TSCA).” Since other entities may also be interested, the Agency has not attempted to describe all the specific entities that may be affected by this action. If you have any questions regarding the applicability of this action to a particular entity, consult the technical person listed underFOR FURTHER INFORMATION CONTACT.

II. How Can I Get Additional Information, Including Copies of this Document or Other Related Documents?

You may obtain electronic copies of this document, and certain other related documents that might be available electronically, from the EPA Internet Home Page at http://www.epa.gov/. To access this document, on the Home Page select; Laws and Regulations;, “Regulations and Proposed Rules,” and then look up the entry for this document under the “Federal Register—Environmental Documents.” You can also go directly to the Federal Register listings at http://www.epa.gov/fedrgstr/.

III. What Action is the Agency Taking?

Under contract number 68-W-01-039, contractor Abt Associates, of 55 Wheeler Street, Cambridge, MA, will assist the Office of Pollution Prevention and Toxics (OPPTS) in evaluating the potential risks of new chemical substances including microorganisms; and evaluating existing chemicals for risk and for the need to develop data bearing on such risks.ÿ7E

In accordance with 40 CFR 2.306(j), EPA has determined that under EPA contract number 68-W-01-039, Abt Associates will require access to CBI submitted to EPA under sections 4, 5, 6, and 8 of TSCA to perform successfully the duties specified under the contract.

Access to the confidential data submitted to EPA under sections 4, 5, 6, and 8 of TSCA occurred as a result of an approved waiver dated May 30, 2001, which requested granting Abt Associates immediate access to sections 4, 5, 6, and 8 of TSCA CBI. This waiver was necessary to allow Abt Associates to assist EPA in evaluating the potential risks of new chemical substances including microorganisms, and evaluating existing chemicals for risk and for the need to develop data bearing on such risks. ÿ7E ÿ7E

EPA is issuing this notice to inform all submitters of information under sections 4, 5, 6, and 8 of TSCA that EPA will provide Abt Associates access to these CBI materials on a need-to-know basis only. All access to TSCA CBI under this contract will take place at EPA Headquarters and at Abt Associates' site located at 4800 Montgomery Lane, Bethesda, MD. No access will occur at the Bethesda, MD facility until after it has been approved for the storage of TSCA CBI.

Abt Associates will be authorized access to TSCA CBI at EPA Headquarters and their site located at 4800 Montgomery Lane, Bethesda, MD, in accordance with the EPA TSCA Confidential Business Information Security Manual.ÿ7E

Clearance for access to TSCA CBI under this contract may continue until April 30, 2006.ÿ7E

Abt Associates personnel will be required to sign nondisclosure agreements and will be briefed on appropriate security procedures before they are permitted access to TSCA CBI.

List of Subjects

Environmental protection, Confidential business information.

Dated: June 7, 2001.
Allen A. Abramson,
Director, Information Management Division, Office of Pollution Prevention and Toxics.

[FR Doc. 01-15151 Filed 6-14-01; 8:45 am]

BILLING CODE 6560-50-S ÿ7Eÿ7Eÿ7Eÿ7Eÿ7Eÿ7Eÿ7Eÿ7Eÿ7Eÿ7Eÿ7Eÿ7Eÿ7Eÿ7Eÿ7Eÿ7Eÿ7Eÿ7Eÿ7Eÿ7Eÿ7Eÿ7Eÿ7Eÿ7Eÿ7Eÿ7E